DEPARTMENT OF ENERGY

Federal Energy Regulatory Commission

[Docket No. ER16-1434-000]

ISO New England Inc., New England Power Pool Participants Committee; Notice of Designation of Commission Staff as Non-Decisional

June 24, 2016.

With respect to the proceeding pending before the Commission in the above-captioned docket, the staff identified below from the Office of Energy Policy and Innovation is designated as non-decisional in deliberations by the Commission in this docket. Accordingly, pursuant to 18 CFR 385.2202 (2015), staff will not serve as advisor to the Commission or take part in the Commission's review of any offer of settlement. Likewise, as non-decisional staff, pursuant to 18 CFR 385.2201 (2015), staff is prohibited from communicating with advisory staff concerning any deliberations in this docket.

The staff designated as non-decisional is:

• Daniel Kheloussi

Dated: June 24, 2016.
Nathaniel J. Davis, Sr.,
Deputy Secretary.

[FR Doc. 2016-15561 Filed 6-29-16; 8:45 am]

BILLING CODE 6717-01-P